FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 011426-051.

Title: West Coast of South America Discussion Agreement.

Parties: APL Co. Pte Ltd.; Compania Chilena de Navigacion Interoceanica, S.A.; Compania Sud Americana de Vapores, S.A.; Frontier Liner Services, Inc.; Hamburg-Süd; Interocean Lines, Inc.; King Ocean Services Limited, Inc.; Mediterranean Shipping Company, SA; Seaboard Marine Ltd.; South Pacific Shipping Company, Ltd. (dba Ecuadorian Line); and Trinity Shipping Line.

Filing Party: Wayne R. Rohde, Esq.; Cozen O'Conner; 1627 I Street, NW., Suite 1100; Washington, DC 20006-4007.

Synopsis: The amendment deletes A.P. Moller-Maersk A/S as a party to the agreement.

Agreement No.: 011814-005.

Title: HSDG/King Ocean Space Charter Agreement.

Parties: Hamburg-Südamerikanische Dampfschifffahrts-Gesellschaft KG; King Ocean Services Limited; and King Ocean Service de Venezuela, S.A.

Filing Party: Wayne Rohde, Esq.; Cozen O'Connor; 1627 I Street, NW.; Suite 1100; Washington, DC 20006.

Synopsis: The amendment revises the size of vessels to be deployed and the amount of space to be chartered, deletes obsolete language, corrects the address of Hamburg Sud, and removes King Ocean Service de Venezuela, S.A. as a participant.

Agreement No.: 012064-001.

Title: Hapag-Lloyd/NYK Mexico-Dominican Republic Slot Exchange Agreement.

Parties: Hapag-Lloyd AG and Nippon Yusen Kaisha.

Filing Party: Wayne Rohde, Esq.; Cozen O'Connor; 1627 I Street, NW.; Suite 1100; Washington, DC 20006.

Synopsis: The amendment would add Brazil to the geographic scope of the Agreement and revise the amount of space to be exchanged.

By Order of the Federal Maritime Commission.
Dated: July 1, 2011.
Karen V. Gregory,
Secretary.

[FR Doc. 2011-17906 Filed 7-12-11; 4:15 pm]

BILLING CODE 6730-01-P